DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 73 FR 20297-304, dated April 15, 2008) is amended to reflect the reorganization of the Financial Management Office within the Office of the Chief Operating Officer, Centers for Disease Control and Prevention.

Section C-B, Organization and Functions, is hereby amended as follows: Delete in their entirety the titles and functional statements for the Financial Management Office (CAJE), and insert the following:

Financial Management Office (CAJE). (1) Provides leadership and coordination in the development and administration of the Centers for Disease Control and Prevention's (CDC) financial management policies; (2) develops budget submissions for the CDC; (3) collaborates with the CDC Office of the Director (OD) in the development and implementation of long-range program and financial plans; (4) participates in budget reviews and hearings; (5) manages CDC's system of internal budgetary planning and control of funds; (6) develops and implements CDC-wide budgetary, accounting, and fiscal systems and procedures; (7) conducts CDC-wide manpower management (including productivity measurement) activities; (8) prepares financial reports; (9) serves as the focal point for domestic and international travel policy, procedures and interpretation; (10) provides legislation reference services; (11) plans, directs and conducts internal quality assurance reviews; (12) analyzes data and makes recommendations to assure effective safeguards are in place to prevent fraud, waste and abuse; (13) assists in identifying or conducting special financial management training programs; and (14) maintains liaison with the Department of Health and Human Services (DHHS), Office of Management and Budget (0MB), Congress, and other government organizations on financial management matters.

Office of the Director (CAJE1). (1) Provides leadership, guidance, direction, and oversight necessary to fully manage the performance of CDC's Financial Management Office (FMO); (2) establishes FMO's vision and long-term strategy; (3) leads the overall budgetary and human resource management strategy for FMO; (4) develops customer service strategy and actively engages the Agency around financial management effectiveness and improvement; (5) provides financial guidance and strategic support for the Agency and the Chief Operating Officer; (6) advocates and supports policy and appropriations law compliance; (7) serves as CDC witness in budget hearings before Committees of Congress, OMB, and DHHS; (8) participates with senior program and Agency management in program planning and policy determinations, evaluations, conferences, and decisions concerning financial resources; (9) provides a centralized source for current information on financial management legal and regulatory requirements governing the prevention and control of diseases; and (10) provides consultation and assistance in financial management to state and local health departments when requested by CDC officials.

Travel Management Activity (CAJE12). (1) Provides expertise, guidance, oversight, and interpretation of policies, laws, rules and regulations for all aspects of travel procedures and policies at CDC, including the use of the automated travel system, local travel, domestic and foreign temporary duty travel, and change of station travel for civil service employees, foreign service employees, commissioned officers, CDC fellows, etc.; (2) communicates and implements Departmental travel policies; (3) manages the administrative aspects of travel for the agency, including enforcement of travel card policy, delegation of authority, distribution of cash purchase memos, and approval of First-Class memos; (4) serves as liaison with travel provider for travel contract matters; (5) provides the Director's Emergency Operations Center travel support; and (6) develops CDC Conference Travel planning and reporting for DHHS and Congress.

Office of Organizational Excellence (CAJE13). (1) Provides direction, strategy, and advice necessary to support the management and continuous improvement of FMO and financial processes; (2) coordinates creation and implementation of operating standards/procedures and processes, and monitors compliance; (3) provides leading practices in government financial management practices to FMO; (4) coordinates continuous improvement and special project initiatives and advises on performance improvement opportunities; (5) manages FMO Service Desk; (6) develops, implements, and manages recruiting, hiring, retention, and succession strategies; (7) manages all aspects of human resources for FMO, including application of Federal programs and staffing administration; (8) develops, implements, and manages professional development strategy and plan for FMO; (9) develops and implements FMO's communication strategy and plan; and (10) manages the development and communication of financial management policies.

Office of Formulation, Evaluation, and Analysis (CAJE14). (1) Develops CDC's budget in accordance with DHHS, OMB, and Congressional requirements, policies, procedures, and regulations; (2) provides leadership and advice on matters of budget formulation, public health policy development, budget and performance integration, and Congressional appropriations for CDC/ATSDR; (3) participates in budget reviews and hearings before DHHS, OMB, and Congress; (4) provides direction and guidance for appropriations strategy and program support; (5) manages budget submissions and OMB Performance Assessment and Rating Tool (PART) content; (6) provides leadership and advice in implementing performance systems, including the PART assessments, key performance indicators, and CDC's Government Performance Results Act (GPRA) program; (7) serves as a liaison with the Office of the Secretary, OMB, Government Accountability Office, other government organizations, and Congress on financial management matters; (8) manages appropriations analysis and reporting process, submissions, and summary information; and (9) manages appropriations communication and issues management both internally and externally, and interacts with BBS, OMB, Congress, and partners.

Accounting Branch (CAJEB). (1) Oversees and provides approach to accounting for the Agency; (2) manages accounting treatment for CDC on all business systems implementations and upgrades to current business systems; (3) manages all financial audit reviews for FMO and conducts risk assessment on internal controls; (4) prepares SF 133 Report on Budget Execution for CDC Appropriation and IDDAs, FACTS I and II Report and Year-End Closing Statement (2108 Report), and SF 224; (5) prepares, analyzes fluctuations, and coordinates explanation on differences for financial statements and notes, including Statement of Changes in Net Position, Statement of Budgetary Resources, Balance Sheet, Statement of Net Cost, and Statement of Financing; (6) performs GPRA reporting analysis for compliance; (7) ensures compliance of Federal and Department reporting requirements; (8) coordinates accounting policy issues with the DHHS Office of Financial Policy and FMO's Office of Organization Excellence; (9) manages Fund Balance with Treasury, including authority, disbursements (payroll and non-payroll), collections, deposit funds and budget clearing accounts; (10) prepares manual and ADI journal vouchers for corrections to the general ledger; and (11) performs monthly, quarterly, and year-end closeout process of the general ledger.

Financial Systems Branch (CAJED). (1) Provides management and coordination necessary for FMO to have access to systems, data, and reporting capability; (2) develops, implements, and manages long-term systems strategy for FMO; (3) provides systems analysis, design, programming, implementation, enhancement and documentation of FMO related systems; (4) provides technical support and assistance for data error analysis and resolution, coordination of system initiatives, management of IT resources, and the access and interpretation of financial system data; (5) serves as a liaison to UFMS Operations and Maintenance and other internal and external groups as needed; (6) manages all aspects of FMO's systems security and administration; (7) performs certification and accreditation of FMO systems; (8) performs CAN realignment coordination; and (9) manages FMO hardware and equipment, and serves as the custodial officer.

Financial Services Branch (CAJEE). (1) Manages all activities, policies, quality control, and audit support for accounts payable and disbursement functions for the Agency; (2) serves as the CDC subject matter expert on all financial matters dealing with all travel, assignments and payments; (3) ensures all payments are made in accordance with applicable Federal and international laws and standards, such as Appropriations Law; (4) serves as liaison with the Department of Treasury (DOT), the CC/COs, NCs, Divisions, and/or Offices, as well as outside customers, to provide financial information and reconcile payment issues; (5) compiles and submits a variety of cash management and travel reports required by the DOT and various other outside agencies; (6) provides training and advice on payment, travel and disbursement issues; (7) manages the transactions related to accounts payable, such as processing cables, reimbursements, IPAC disbursements, and payments for Foreign internationals and Visiting Fellows; (8) completes all reconciliations of sub-legers to General Ledger; (9) responds to traveler inquiries for vouchers and certifies funds availability; and (10) manages change of station payment processing.

Budget Operations Branch (CAJEH). (1) Provides agency-level budget execution functions, financial data analysis, and reporting; (2) provides budgetary information for business decision making support surrounding public health; (3) develops high-level plans to execute Agency level budget; (4) ensures changes and plans are in compliance with decisions and Agency direction; (5) reports compliance of laws, regulations, and decisions to FMO Deputy Director for Budget; (6) provides agency-wide budget planning, analysis, and reporting for agency budget execution and public health goals strategy; (7) provides Agency spend plan validation, remediation, and analysis; (8) provides funds control management for the Agency level budget; (9) assists in the review of Congressional bill language to identify and properly account for earmarks and other directed programs; (10) provides Departmental and OMB reporting; and (11) provides budget execution for Centralized Mandatory Services.

Debt Management Branch (CAJEJ). (1) Oversees and provides approach to invoicing, billing, collections, reconciliations and reporting for the Agency; (2) serves as the central point of contact for the Agency on all debt management issues, including training and issue resolution; (3) develops strategy and analysis for reimbursable agreements in accordance with the CC/CO, NC, Division, and/or Office; (4) manages all aspects of accounts receivable transactions in UFMS, prepares invoices, and processes billing; (5) works with programs, the Chief Financial Officer, and FMO to resolve all posting errors, such as the resolution for over-obligated and unsigned agreements, DC calculations, and uncollectible debt; (6) analyzes the intra- and inter-governmental eliminations process for compliance with financial statements; (7) prepares and submits Agency level fmancial reports to HHS/OS; and (8) prepares and submits the year end certification and verification of the Treasury Report on receivables.

Grants and Asset Management Branch (CAJEK). (1) Oversees and provides approach to grants management; (2) serves as liaison with the Procurements and Grants Office, Buildings and Facilities Offices, Program offices, and Budget Execution Services on capital asset procedures; (3) manages financial accounting for all assets for CDC, including real and personal property, equipment, land, leases, software, personal property, and stockpiles; (4) conducts financial and inventory reconciliations for all applicable assets, including inventory such as Vaccine for Children and Strategic National Stockpile, real and personal property, equipment, leases, leasehold improvements, land, and others as needed; (5) provides training and assistance to CDC project officers and grants management officials around financial grants management; (6) serves as liaison with grantees and other operating divisions for financial questions/inquiries related to grants; (7) manages the process to perform grant processing for commitments, obligations, advances, disbursements, and accruals; (8) manages grants transactions, such as vendor set-up, establishing sub-accounts, CAN set-up within PMS, reconciling sycnfile to PMS, and posting files from PMS; and (9) conducts grant reviews, monitors burn rates, and supports Program in grant execution.

Budget Execution Services Branch 1 (CAJEL). This branch supports the National Center for Zoonotic, Vector-Borne, and Enteric Diseases and the National Center for Preparedness, Detection, and Control of Infectious Diseases by performing the following: (1) Provides the legal and regulatory expertise and support to execute CDC's budget within the framework of DHHS, OMB, and Congressional regulations, and policies of CDC OD; (2) manages to the expectations agreed upon in the Budget Execution Services Service Level Agreement; (3) promotes structured, ongoing partnerships with the Coordinating Centers/Coordinating Offices (CC/CO), National Centers (NC), Divisions, and Offices; (4) manages and supports Program in all aspects of funds management; (5) provides the leadership and guidance for spend plan creation and administration, in compliance with all Federal guidelines and policies, such as the Anti-Deficiency Act; (6) provides the overall analysis and reconciliation of spend plans to advise Program on future spending decisions; (7) assists Program Officials in developing sub-allocation of CC/CO, NC, and Division ceilings; (8) communicates and shares knowledge with Program, FMO Central, and CDC's FMO Budget Analyst Community; and (9) performs cost-benefit analysis to review financial requests and makes recommendations for future year budget.

Budget Execution Services Branch 2 (CAJEM). This branch supports the National Center for Immunization and Respiratory Diseases, the National Center for HP//AIDS, Viral Hepatitis, STD, and TB Prevention, and the Office of the Director for Coordinating Center for Infectious Diseases by performing the following: (1) Provides the legal and regulatory expertise and support to execute CDC's budget within the framework of DHHS, OMB, and Congressional regulations, and policies of CDC OD; (2) manages to the expectations agreed upon in the Budget Execution Services Service Level Agreement; (3) promotes structured, ongoing partnerships with the CC/COs, NCs, Divisions, and Offices; (4) manages and supports Program in all aspects of funds management; (5) provides the leadership and guidance for spend plan creation and administration, in compliance with all Federal guidelines and policies, such as the Anti Deficiency Act; (6) provides the overall analysis and reconciliation of spend plans to advise Program on future spending decisions; (7) assists Program Officials in developing sub-allocation of CCICO, NC, and Division ceilings; (8) communicates and shares knowledge with Program, FMO Central, and CDC's FMO Budget Analyst Community; and (9) performs cost-benefit analysis to review financial requests and makes recommendations for future-year budget.

Budget Execution Services Branch 3 (CAJEN). This branch supports the Coordinating Center for Environmental Health and Injury Prevention and the National Institute for Occupational Safety and Health by performing the following: (1) Provides the legal and regulatory expertise and support to execute CDC's budget within the framework of DHHS, OMB, and Congressional regulations, and policies of CDC OD; (2) manages to the expectations agreed upon in the Budget Execution Services Service Level Agreement; (3) promotes structured, ongoing partnerships with the CC/COs, NCs, Divisions, and Offices; (4) manages and supports Program in all aspects of funds management; (5) provides the leadership and guidance for spend plan creation and administration, in compliance with all Federal guidelines and policies, such as the Anti Deficiency Act; (6) provides the overall analysis and reconciliation of spend plans to advise Program on future spending decisions; (7) assists Program Officials in developing sub-allocation of CC/CO, NC, and Division ceilings; (8) communicates and shares knowledge with Program, FMO Central, and CDC's FMO Budget Analyst Community; and (9) performs cost-benefit analysis to review financial requests and makes recommendations for future-year budget.

Budget Execution Services Branch 4 (CAJEP). This branch supports the Coordinating Center for Health Promotion and the Office of Workforce and Career Development by performing the following: (1) Provides the legal and regulatory expertise and support to execute CDC's budget within the framework of DHHS, OMB, and Congressional regulations, and policies of CDC OD; (2) manages to the expectations agreed upon in the Budget Execution Services Service Level Agreement; (3) promotes structured, ongoing partnerships with the CC/COs, NCs, Divisions, and Offices; (4) manages and supports Program in all aspects of funds management; (5) provides the leadership and guidance for spend plan creation and administration, in compliance with all Federal guidelines and policies, such as the Anti-Deficiency Act; (6) provides the overall analysis and reconciliation of spend plans to advise Program on future spending decisions; (7) assists Program Officials in developing sub-allocation of CC/CO, NC, and Division ceilings; (8) communicates and shares knowledge with Program, FMO Central, and CDC's FMO Budget Analyst Community; and (9) performs cost-benefit analysis to review financial requests and makes recommendations for future-year budget.

Budget Execution Services Branch 5 (CAJER). This branch supports the Coordinating Office for Global Health, the Office of the Chief Operating Officers, and the Office of the Director, CDC, by performing the following: (1) Provides the legal and regulatory expertise and support to execute CDC's budget within the framework of DUBS, OMB, and Congressional regulations, and policies of CDC OD; (2) manages to the expectations agreed upon in the Budget Execution Services Service Level Agreement; (3) promotes structured, ongoing partnerships with the CC/COs, NCs, Divisions, and Offices; (4) manages and supports Program in all aspects of funds management; (5) provides the leadership and guidance for spend plan creation and administration, in compliance with all Federal guidelines and policies, such as the Anti-Deficiency Act; (6) provides the overall analysis and reconciliation of spend plans to advise Program on future spending decisions; (7) assists Program Officials in developing sub-allocation of CC/CO, NC, and Division ceilings; (8) communicates and shares knowledge with Program, FMO Central, and CDC's FMO Budget Analyst Community; and (9) performs cost-benefit analysis to review financial requests and makes recommendations for future year budget.

Budget Execution Services Branch 6 (CAJES). This branch supports the Coordinating Center for Health Information and Service and the Coordinating Office for Terrorism Preparedness and Emergency Response by performing the following: (1) Provides the legal and regulatory expertise and support to execute CDC's budget within the framework of DHHS, OMB, and Congressional regulations, and policies of CDC OD; (2) manages to the expectations agreed upon in the Budget Execution Services Service Level Agreement; (3) promotes structured, ongoing partnerships with the CC/COs, NCs, Divisions, and Offices; (4) manages and supports Program in all aspects of funds management; (5) provides the leadership and guidance for spend plan creation and administration, in compliance with all Federal guidelines and policies, such as the Anti-Deficiency Act; (6) provides the overall analysis and reconciliation of spend plans to advise Program on future spending decisions; (7) assists Program Officials in developing sub-allocation of CC/CO, NC, and Division ceilings; (8) communicates and shares knowledge with Program, FMO Central, and CDC's FMO Budget Analyst Community; and (9) performs cost-benefit analysis to review financial requests and makes recommendations for future-year budget.

Dated: May 8, 2008.
Joseph Henderson,
Acting Chief Operating Officer, Centers for Disease Control and Prevention.

[FR Doc. E8-10982 Filed 5-15-08; 8:45 am]

BILLING CODE 4160-18-M